DEPARTMENT OF COMMERCE

National Oceanic and Atmospheric Administration

[RTID 0648-XC027]

Pacific Fishery Management Council; Public Meeting

AGENCY: National Marine Fisheries Service (NMFS), National Oceanic and Atmospheric Administration (NOAA), Commerce.

ACTION: Notice of public online meeting.

SUMMARY: The Groundfish Subcommittee of the Pacific Fishery Management Council's (Pacific Council's) Scientific and Statistical Committee (SSC) will hold a workshop to develop methods for constructing abundance indices based on hook-and-line surveys. Additionally, the SSC Groundfish Subcommittee will review the Species Distribution Model in Template Model Builder. The workshop and methodology review meeting is open to the public.

DATES: The SSC Groundfish Subcommittee's online workshop and methodology review meeting will be held Tuesday, June 21, 2022 through Thursday, June 23, 2022 beginning at 8 a.m. each day and continuing until 5 p.m. Pacific Time or until business for the day has been completed.

ADDRESSES: The SSC Groundfish Subcommittee's methodology review meeting and workshop will be an online meeting. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Groundfish Subcommittee's meeting is to develop methods and best practices for constructing abundance indices based on hook-and-line surveys in a workshop. Recommendations of SSC Groundfish Subcommittee members will inform the 2023 Accepted Practices Guidelines for Stock Assessments, which is a compilation of guidelines for groundfish stock assessment scientists. Additionally, the SSC Groundfish Subcommittee will review the Species Distribution Model in Template Model Builder (sdmTMB). The sdmTMB model is proposed for developing relative biomass indices in future groundfish stock assessments. The SSC Groundfish Subcommittee report of workshop and methodology review findings and recommendations will be provided to the Pacific Council and the SSC at the November 2022 Pacific Council meeting.

No management actions will be decided by the SSC Groundfish Subcommittee. The SSC Groundfish Subcommittee members' role will be development of recommendations and reports for consideration by the SSC and Pacific Council at the November 2022 Pacific Council meeting.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

Requests for sign language interpretation or other auxiliary aids should be directed to Mr. Kris Kleinschmidt (kris.kleinschmidt@noaa.gov; (503) 820-2412) at least 10 days prior to the meeting date.

(Authority: 16 U.S.C 1801 et seq.)

Dated: May 26, 2022.
Tracey L. Thompson,
Acting Deputy Director, Office of Sustainable Fisheries, National Marine Fisheries Service.

[FR Doc. 2022-11795 Filed 6-1-22; 8:45 am]

BILLING CODE 3510-22-P